DEPARTMENT OF ENERGY

Federal Energy Regulatory Commission

Combined Notice of Filings

Take notice that the Commission has received the following Natural Gas Pipeline Rate and Refund Report filings:

Filings Instituting Proceedings

Docket Numbers: RP19-1023-000.

Applicants: MIGC LLC.

Description: Compliance filing NAESB V3.1 (Order No. 587-Y) Compliance to be effective 8/1/2019.

Filed Date: 4/1/19.

Accession Number: 20190401-5020.

Comments Due: 5 p.m. ET 4/15/19.

Docket Numbers: RP19-1029-000.

Applicants: American Midstream (AlaTenn), LLC.

Description: § 4(d) Rate Filing: Order No. 587-Y Compliance Filing to be effective 8/1/2019.

Filed Date: 4/1/19.

Accession Number: 20190401-5103.

Comments Due: 5 p.m. ET 4/15/19.

Docket Numbers: RP19-1030-000.

Applicants: American Midstream (Midla), LLC.

Description: § 4(d) Rate Filing: Order No. 587-Y Compliance Filing to be effective 8/1/2019.

Filed Date: 4/1/19.

Accession Number: 20190401-5110.

Comments Due: 5 p.m. ET 4/15/19.

Docket Numbers: RP19-1031-000.

Applicants: Destin Pipeline Company, L.L.C.

Description: § 4(d) Rate Filing: Order No. 587-Y Compliance Filing to be effective 8/1/2019.

Filed Date: 4/1/19.

Accession Number: 20190401-5118.

Comments Due: 5 p.m. ET 4/15/19.

Docket Numbers: RP19-1032-000.

Applicants: High Point Gas Transmission, LLC.

Description: § 4(d) Rate Filing: Order No. 587-Y Compliance Filing to be effective 8/1/2019.

Filed Date: 4/1/19.

Accession Number: 20190401-5120.

Comments Due: 5 p.m. ET 4/15/19.

Docket Numbers: RP19-1033-000.

Applicants: Trans-Union Interstate Pipeline, L.P.

Description: § 4(d) Rate Filing: Order No. 587-Y Compliance Filing to be effective 8/1/2019.

Filed Date: 4/1/19.

Accession Number: 20190401-5121.

Comments Due: 5 p.m. ET 4/15/19.

Docket Numbers: RP19-1034-000.

Applicants: DBM Pipeline, LLC.

Description: Compliance filing Order No. 587-Y Compliance to be effective 8/1/2019.

Filed Date: 4/1/19.

Accession Number: 20190401-5193.

Comments Due: 5 p.m. ET 4/15/19.

Docket Numbers: RP19-1035-000.

Applicants: KPC Pipeline, LLC.

Description: Compliance filing Order No. 587-Y Compliance to be effective 8/1/2019.

Filed Date: 4/1/19.

Accession Number: 20190401-5194.

Comments Due: 5 p.m. ET 4/15/19.

Docket Numbers: RP19-1036-000.

Applicants: MarkWest New Mexico, L.L.C.

Description: Compliance filing Order No. 587-Y Compliance to be effective 8/1/2019.

Filed Date: 4/1/19.

Accession Number: 20190401-5195.

Comments Due: 5 p.m. ET 4/15/19.

Docket Numbers: RP19-1037-000.

Applicants: MarkWest Pioneer, L.L.C.

Description: Compliance filing Order No. 587-Y Compliance to be effective 8/1/2019.

Filed Date: 4/1/19.

Accession Number: 20190401-5196.

Comments Due: 5 p.m. ET 4/15/19.

Docket Numbers: RP19-1038-000.

Applicants: NGO Transmission, Inc.

Description: Compliance filing Order No. 587-Y Compliance to be effective 8/1/2019.

Filed Date: 4/1/19.

Accession Number: 20190401-5197.

Comments Due: 5 p.m. ET 4/15/19.

Docket Numbers: RP19-1039-000.

Applicants: Venice Gathering System, L.L.C.

Description: Compliance filing Order No. 587-Y Compliance to be effective 8/1/2019.

Filed Date: 4/1/19.

Accession Number: 20190401-5198.

Comments Due: 5 p.m. ET 4/15/19.

Docket Numbers: RP19-1040-000.

Applicants: Hardy Storage Company, LLC.

Description: § 4(d) Rate Filing: RAM 2019 to be effective 5/1/2019.

Filed Date: 4/1/19.

Accession Number: 20190401-5199.

Comments Due: 5 p.m. ET 4/15/19.

Docket Numbers: RP19-1041-000.

Applicants: B-R Pipeline Company.

Description: Compliance filing Order 587-Y Compliance to be effective 8/1/2019.

Filed Date: 4/1/19.

Accession Number: 20190401-5202.

Comments Due: 5 p.m. ET 4/15/19.

Docket Numbers: RP19-1042-000.

Applicants: USG Pipeline Company, LLC.

Description: Compliance filing Order No. 587-Y Compliance Filing to be effective 8/1/2019.

Filed Date: 4/1/19.

Accession Number: 20190401-5216.

Comments Due: 5 p.m. ET 4/15/19.

Docket Numbers: RP19-1043-000.

Applicants: Columbia Gas Transmission, LLC.

Description: § 4(d) Rate Filing: OTRA—Summer 2019 to be effective 5/1/2019.

Filed Date: 4/1/19.

Accession Number: 20190401-5220.

Comments Due: 5 p.m. ET 4/15/19.

Docket Numbers: RP19-1044-000.

Applicants: Cheniere Corpus Christi Pipeline, LP.

Description: Compliance filing NAESB 3.1 to be effective 8/1/2019.

Filed Date: 4/1/19.

Accession Number: 20190401-5223.

Comments Due: 5 p.m. ET 4/15/19.

Docket Numbers: RP19-1045-000.

Applicants: Cheniere Creole Trail Pipeline, L.P.

Description: Compliance filing NAESB Version 3.1 to be effective 8/1/2019.

Filed Date: 4/1/19.

Accession Number: 20190401-5224.

Comments Due: 5 p.m. ET 4/15/19.

Docket Numbers: RP19-1046-000.

Applicants: Northern Border Pipeline Company.

Description: § 4(d) Rate Filing: Negotiated Rate Agmt—Sequent to be effective 4/1/2019.

Filed Date: 4/1/19.

Accession Number: 20190401-5225.

Comments Due: 5 p.m. ET 4/15/19.

Docket Numbers: RP19-1047-000.

Applicants: ANR Pipeline Company.

Description: Compliance filing Compliance to Docket No. RM96-1-041 to be effective 8/1/2019.

Filed Date: 4/1/19.

Accession Number: 20190401-5235.

Comments Due: 5 p.m. ET 4/15/19.

Docket Numbers: RP19-1048-000.

Applicants: Great Lakes Gas Transmission Limited Parnership.

Description: § 4(d) Rate Filing: SEMCO Negotiated Rate Agreement to be effective 4/1/2019.

Filed Date: 4/1/19.

Accession Number: 20190401-5242.

Comments Due: 5 p.m. ET 4/15/19.

Docket Numbers: RP19-1049-000.

Applicants: Discovery Gas Transmission LLC.

Description: Compliance filing NAESB 3.1 Compliance (Order No. 587Y) to be effective 8/1/2019.

Filed Date: 4/1/19.

Accession Number: 20190401-5267.

Comments Due: 5 p.m. ET 4/15/19.

Docket Numbers: RP19-1050-000.

Applicants: Cimarron River Pipeline, LLC.

Description: Compliance filing Order No. 587-Y NAESB 3.1 Compliance to be effective 8/1/2019.

Filed Date: 4/1/19.

Accession Number: 20190401-5294.

Comments Due: 5 p.m. ET 4/15/19.

Docket Numbers: RP19-1051-000.

Applicants: National Grid LNG, LLC.

Description: Compliance filing Order 587-Y Compliance Filing Adopting NAESB WQC Version 3.1 to be effective 8/1/2019.

Filed Date: 4/1/19.

Accession Number: 20190401-5296.

Comments Due: 5 p.m. ET 4/15/19.

Docket Numbers: RP19-1052-000.

Applicants: Dauphin Island Gathering Partners.

Description: Compliance filing Order No. 587-Y NAESB 3.1 Compliance to be effective 8/1/2019.

Filed Date: 4/1/19.

Accession Number: 20190401-5297.

Comments Due: 5 p.m. ET 4/15/19.

Docket Numbers: RP19-1053-000.

Applicants: WTG Hugoton, LP.

Description: Compliance filing Order No. 587-Y Compliance (NAESB Version 3.1) to be effective 4/1/2019.

Filed Date: 4/1/19.

Accession Number: 20190401-5298.

Comments Due: 5 p.m. ET 4/15/19.

Docket Numbers: RP19-1054-000.

Applicants: Algonquin Gas Transmission, LLC.

Description: § 4(d) Rate Filing: Negotiated Rate—Macquarie Energy contract 510932 to be effective 4/1/2019.

Filed Date: 4/1/19.

Accession Number: 20190401-5299.

Comments Due: 5 p.m. ET 4/15/19.

Docket Numbers: RP19-1055-000.

Applicants: Tennessee Gas Pipeline Company, L.L.C.

Description: § 4(d) Rate Filing: Volume No.2—Neg Rate Agmt—BKV SP338731 and SP339297 to be effective 4/1/2019.

Filed Date: 4/1/19.

Accession Number: 20190401-5361.

Comments Due: 5 p.m. ET 4/15/19.

Docket Numbers: RP19-1056-000.

Applicants: Boardwalk Storage Company, LLC.

Description: Compliance filing NAESB Order No. 587-Y Compliance Filing to be effective 8/1/2019.

Filed Date: 4/1/19.

Accession Number: 20190401-5398.

Comments Due: 5 p.m. ET 4/15/19.

Docket Numbers: RP19-1057-000.

Applicants: Texas Gas Transmission, LLC.

Description: Compliance filing NAESB Order No. 587-Y Compliance Filing to be effective 8/1/2019.

Filed Date: 4/1/19.

Accession Number: 20190401-5399.

Comments Due: 5 p.m. ET 4/15/19.

Docket Numbers: RP19-1058-000.

Applicants: Millennium Pipeline Company, LLC.

Description: Compliance filing Compliance to Docket No. RM96-1-041 to be effective 8/1/2019.

Filed Date: 4/1/19.

Accession Number: 20190401-5400.

Comments Due: 5 p.m. ET 4/15/19.

Docket Numbers: RP19-1059-000.

Applicants: Texas Gas Transmission, LLC.

Description: § 4(d) Rate Filing: Cap Rel Neg Rate Agmts (Gulfport 34959, 35446 to Eco-Energy 37888, 37889) to be effective 4/1/2019.

Filed Date: 4/1/19.

Accession Number: 20190401-5401.

Comments Due: 5 p.m. ET 4/15/19.

Docket Numbers: RP19-1060-000.

Applicants: WBI Energy Transmission, Inc.

Description: Compliance filing 2019 NAESB Compliance Filing with Order No. 587-Y to be effective 8/1/2019.

Filed Date: 4/1/19.

Accession Number: 20190401-5402.

Comments Due: 5 p.m. ET 4/15/19.

Docket Numbers: RP19-1061-000.

Applicants: ANR Storage Company.

Description: Compliance filing Compliance to Docket No. RM96-1-041 to be effective 8/1/2019.

Filed Date: 4/1/19.

Accession Number: 20190401-5403.

Comments Due: 5 p.m. ET 4/15/19.

Docket Numbers: RP19-1062-000.

Applicants: Gulf South Pipeline Company, LP.

Description: Compliance filing NAESB Order No. 587-Y Compliance Filing to be effective 8/1/2019.

Filed Date: 4/1/19.

Accession Number: 20190401-5406.

Comments Due: 5 p.m. ET 4/15/19.

Docket Numbers: RP19-1063-000.

Applicants: Gulf South Pipeline Company, LP.

Description: § 4(d) Rate Filing: Amendments to Neg Rate Agmts (Aethon 37657, 50488) to be effective 3/1/2019.

Filed Date: 4/1/19.

Accession Number: 20190401-5407.

Comments Due: 5 p.m. ET 4/15/19.

Docket Numbers: RP19-1064-000.

Applicants: Stingray Pipeline Company, L.L.C.

Description: Compliance filing Order No. 587-Y Compliance Filing to be effective 8/1/2019.

Filed Date: 4/1/19.

Accession Number: 20190401-5416.

Comments Due: 5 p.m. ET 4/15/19.

Docket Numbers: RP19-1065-000.

Applicants: Gulf South Pipeline Company, LP.

Description: § 4(d) Rate Filing: Cap Rel Neg Rate Agmt (FPL 41618 to DTE 50800) to be effective 4/1/2019.

Filed Date: 4/1/19.

Accession Number: 20190401-5435.

Comments Due: 5 p.m. ET 4/15/19.

Docket Numbers: RP19-1066-000.

Applicants: Gulf South Pipeline Company, LP.

Description: § 4(d) Rate Filing: Cap Rel Neg Rate Agmt (Trans Louisiana 50890 to CenterPoint 50900) to be effective 4/1/2019.

Filed Date: 4/1/19.

Accession Number: 20190401-5442.

Comments Due: 5 p.m. ET 4/15/19.

Docket Numbers: RP19-1067-000.

Applicants: Gulf South Pipeline Company, LP.

Description: § 4(d) Rate Filing: Cap Rel Neg Rate Agmts (Petrohawk releases eff 4-1-2019) to be effective 4/1/2019.

Filed Date: 4/1/19.

Accession Number: 20190401-5449.

Comments Due: 5 p.m. ET 4/15/19.

Docket Numbers: RP19-1068-000.

Applicants: Gulf South Pipeline Company, LP.

Description: § 4(d) Rate Filing: Cap Rel Neg Rate Agmt (Pensacola 43993 to BP 50937) to be effective 4/1/2019.

Filed Date: 4/1/19.

Accession Number: 20190401-5456.

Comments Due: 5 p.m. ET 4/15/19.

Docket Numbers: RP19-1069-000.

Applicants: Gulf South Pipeline Company, LP.

Description: § 4(d) Rate Filing: Cap Rel Neg Rate Agmts (JERA 46435 amendment; 46435, 46434 to EDF 50842, 50843) to be effective 4/1/2019.

Filed Date: 4/1/19.

Accession Number: 20190401-5457.

Comments Due: 5 p.m. ET 4/15/19.

Docket Numbers: RP19-1070-000.

Applicants: Western Gas Interstate Company.

Description: Compliance filing Order No. 587-Y Compliance (NAESB Version 3.1) to be effective 4/1/2019.

Filed Date: 4/1/19.

Accession Number: 20190401-5458.

Comments Due: 5 p.m. ET 4/15/19.

Docket Numbers: RP19-1071-000.

Applicants: Portland General Electric Company.

Description: Compliance filing NAESB V3.1 Standards Compliance Filing to be effective 8/1/2019.

Filed Date: 4/1/19.

Accession Number: 20190401-5462.

Comments Due: 5 p.m. ET 4/15/19.

Docket Numbers: RP19-1072-000.

Applicants: Gulf Crossing Pipeline Company LLC.

Description: Compliance filing NAESB Order No. 587-Y Compliance Filing to be effective 8/1/2019.

Filed Date: 4/1/19.

Accession Number: 20190401-5465.

Comments Due: 5 p.m. ET 4/15/19.

Docket Numbers: RP19-1073-000.

Applicants: Gulf Crossing Pipeline Company LLC.

Description: § 4(d) Rate Filing: Amendment to Neg Rate Agmt (BP 37) to be effective 4/1/2019.

Filed Date: 4/1/19.

Accession Number: 20190401-5466.

Comments Due: 5 p.m. ET 4/15/19.

Docket Numbers: RP19-1074-000.

Applicants: Gulf Crossing Pipeline Company LLC.

Description: § 4(d) Rate Filing: Perm Release Neg Rate Agmt (Newfield 18 to Encana 2075) to be effective 4/1/2019.

Filed Date: 4/1/19.

Accession Number: 20190401-5467.

Comments Due: 5 p.m. ET 4/15/19.

Docket Numbers: RP19-1075-000.

Applicants: Blue Lake Gas Storage Company.

Description: Compliance filing Compliance to Docket No. RM96-1-041 to be effective 8/1/2019.

Filed Date: 4/1/19.

Accession Number: 20190401-5468.

Comments Due: 5 p.m. ET 4/15/19.

Docket Numbers: RP19-1076-000.

Applicants: Gulf Crossing Pipeline Company LLC.

Description: § 4(d) Rate Filing: Cap Rel Neg Rate Agmt (Panda Sherman 624 to NextEra 2078) to be effective 4/1/2019.

Filed Date: 4/1/19.

Accession Number: 20190401-5469.

Comments Due: 5 p.m. ET 4/15/19.

Docket Numbers: RP19-1077-000.

Applicants: Natural Gas Pipeline Company of America.

Description: § 4(d) Rate Filing: Amendment to Negotiated Rate Agreement—Macquarie Energy to be effective 4/1/2019.

Filed Date: 4/1/19.

Accession Number: 20190401-5470.

Comments Due: 5 p.m. ET 4/15/19.

Docket Numbers: RP19-1078-000.

Applicants: Natural Gas Pipeline Company of America.

Description: § 4(d) Rate Filing: Negotiated Rate Filing—Morgan Stanley Capital Group to be effective 4/1/2019.

Filed Date: 4/1/19.

Accession Number: 20190401-5472.

Comments Due: 5 p.m. ET 4/15/19.

Docket Numbers: RP19-1079-000.

Applicants: Natural Gas Pipeline Company of America.

Description: § 4(d) Rate Filing: Negotiated Rate Filing—Seven Generations to be effective 4/1/2019.

Filed Date: 4/1/19.

Accession Number: 20190401-5473.

Comments Due: 5 p.m. ET 4/15/19.

Docket Numbers: RP19-1080-000.

Applicants: Natural Gas Pipeline Company of America.

Description: § 4(d) Rate Filing: Amendment to Negotiated Rate Agreement—Tenaska Marketing Ventures to be effective 4/1/2019.

Filed Date: 4/1/19.

Accession Number: 20190401-5477.

Comments Due: 5 p.m. ET 4/15/19.

Docket Numbers: RP19-1081-000.

Applicants: Bluewater Gas Storage, LLC.

Description: Compliance filing Bluewater NAESB Version 3.1 Compliance Filing to be effective 8/1/2019.

Filed Date: 4/1/19.

Accession Number: 20190401-5480.

Comments Due: 5 p.m. ET 4/15/19.

Docket Numbers: RP19-1082-000.

Applicants: Guardian Pipeline, L.L.C.

Description: § 4(d) Rate Filing: Termination and Mutual Extension of Existing Service Agreements to be effective 5/1/2019.

Filed Date: 4/1/19.

Accession Number: 20190401-5486.

Comments Due: 5 p.m. ET 4/15/19.

Docket Numbers: RP19-1083-000.

Applicants: Dominion Energy Questar Pipeline, LLC.

Description: § 4(d) Rate Filing: Statement of Negotiated Rates V. 15 Summit Energy to be effective 4/1/2019.

Filed Date: 4/1/19.

Accession Number: 20190401-5494.

Comments Due: 5 p.m. ET 4/15/19.

Docket Numbers: RP19-1084-000.

Applicants: KO Transmission Company.

Description: Compliance filing Compliance Filing under Order No. 587-Y to be effective 8/1/2019.

Filed Date: 4/1/19.

Accession Number: 20190401-5511.

Comments Due: 5 p.m. ET 4/15/19.

Docket Numbers: RP19-1085-000.

Applicants: Eastern Shore Natural Gas Company.

Description: Compliance filing Order No. 587-Y Compliance Filing to be effective 8/1/2019.

Filed Date: 4/1/19.

Accession Number: 20190401-5521.

Comments Due: 5 p.m. ET 4/15/19.

Docket Numbers: RP19-1086-000.

Applicants: Equitrans, L.P.

Description: § 4(d) Rate Filing: Negotiated Capacity Release Agreements—4/1/2019 to be effective 4/1/2019.

Filed Date: 4/1/19.

Accession Number: 20190401-5561.

Comments Due: 5 p.m. ET 4/15/19.

Docket Numbers: RP19-1087-000.

Applicants: Enable Gas Transmission, LLC.

Description: § 4(d) Rate Filing: Negotiated Rate Filing—April 2019 to be effective 4/1/2019.

Filed Date: 4/1/19.

Accession Number: 20190401-5567.

Comments Due: 5 p.m. ET 4/15/19.

Docket Numbers: RP19-1088-000.

Applicants: Enable Gas Transmission, LLC.

Description: Compliance filing EGT NAESB 3.1 Compliance Filing to be effective 8/1/2019.

Filed Date: 4/1/19.

Accession Number: 20190401-5569.

Comments Due: 5 p.m. ET 4/15/19.

Docket Numbers: RP19-1089-000.

Applicants: WBI Energy Transmission, Inc.

Description: § 4(d) Rate Filing: 2019 Negotiated Rate Service Agreement—Kentex to be effective 4/1/2019.

Filed Date: 4/1/19.

Accession Number: 20190401-5570.

Comments Due: 5 p.m. ET 4/15/19.

Docket Numbers: RP19-1090-000.

Applicants: American Midstream (AlaTenn), LLC.

Description: Compliance filing Order 587-Y (NAESB) to be effective 8/1/2019.

Filed Date: 4/1/19.

Accession Number: 20190401-5571.

Comments Due: 5 p.m. ET 4/15/19.

Docket Numbers: RP19-1091-000.

Applicants: American Midstream (Midla), LLC.

Description: Compliance filing Order No. 587-Y (NAESB) to be effective 8/1/2019.

Filed Date: 4/1/19.

Accession Number: 20190401-5576.

Comments Due: 5 p.m. ET 4/15/19.

Docket Numbers: RP19-1092-000.

Applicants: Destin Pipeline Company, L.L.C.

Description: Compliance filing Order No. 587-Y (NAESB) to be effective 8/1/2019.

Filed Date: 4/1/19.

Accession Number: 20190401-5577.

Comments Due: 5 p.m. ET 4/15/19.

Docket Numbers: RP19-1093-000.

Applicants: High Point Gas Transmission, LLC.

Description: Compliance filing Order No. 587-Y (NAESB) to be effective 8/1/2019.

Filed Date: 4/1/19.

Accession Number: 20190401-5581.

Comments Due: 5 p.m. ET 4/15/19.

Docket Numbers: RP19-1094-000.

Applicants: Trans-Union Interstate Pipeline, L.P.

Description: Compliance filing Order No. 587-Y (NAESB) to be effective 8/1/2019.

Filed Date: 4/1/19.

Accession Number: 20190401-5588.

Comments Due: 5 p.m. ET 4/15/19.

Docket Numbers: RP19-1095-000.

Applicants: Enable Mississippi River Transmission, LLC.

Description: Compliance filing NAESB 3.1 Compliance Filing to be effective 8/1/2019.

Filed Date: 4/1/19.

Accession Number: 20190401-5594.

Comments Due: 5 p.m. ET 4/15/19.

Docket Numbers: RP19-1096-000.

Applicants: Enable Gas Transmission, LLC.

Description: § 4(d) Rate Filing: Fuel Tracker Filing—Effective May 1, 2019 to be effective 5/1/2019.

Filed Date: 4/1/19.

Accession Number: 20190401-5597.

Comments Due: 5 p.m. ET 4/15/19.

Docket Numbers: RP19-1097-000.

Applicants: WestGas InterState, Inc.

Description: Compliance filing WGI Order No 587-Y Compliance Filing_RP19-__to be effective 8/1/2019.

Filed Date: 4/1/19.

Accession Number: 20190401-5599.

Comments Due: 5 p.m. ET 4/15/19.

Docket Numbers: RP19-51-003.

Applicants: Bear Creek Storage Company, L.L.C.

Description: Compliance filing Bear Creek Cost and Revenue Study Compliance Filing in RP19-51.

Filed Date: 4/1/19.

Accession Number: 20190401-5192.

Comments Due: 5 p.m. ET 4/15/19.

Docket Numbers: RP19-710-001.

Applicants: Golden Pass Pipeline LLC.

Description: Compliance filing Golden Pass Pipeline LLC Supplement to 2019 Annual Retainage Report.

Filed Date: 4/1/19.

Accession Number: 20190401-5404.

Comments Due: 5 p.m. ET 4/8/19.

Docket Numbers: RP19-78-004.

Applicants: Panhandle Eastern Pipe Line Company, LP.

Description: Compliance filing PEPL Cost and Revenue Study in Compliance with RP19-78-000.

Filed Date: 4/1/19.

Accession Number: 20190401-5410.

Comments Due: 5 p.m. ET 4/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2019.
Nathaniel J. Davis, Sr.,
Deputy Secretary.

[FR Doc. 2019-06936 Filed 4-8-19; 8:45 am]

BILLING CODE 6717-01-P